DEPARTMENT OF JUSTICE

[OMB Number 1121-NEW]

Office of Justice Programs; Agency Information Collection Activities; Proposed eCollection eComments Requested; New Collection; Fourth National Incidence Studies of Missing, Abducted, Runaway and Thrownaway Children (NISMART-4)

AGENCY: Office of Justice Programs, Department of Justice.

ACTION: 30-Day notice.

SUMMARY: The Department of Justice (DOJ), Office of Justice Programs, Office of Juvenile Justice and Delinquency Prevention, will be submitting the following information collection request to the Office of Management and Budget (OMB) for review and approval in accordance with the Paperwork Reduction Act of 1995.

DATES: Comments are encouraged and will be accepted for 30 days until March 6, 2019.

FOR FURTHER INFORMATION CONTACT: If you have additional comments especially on the estimated public burden or associated response time, suggestions, or need a copy of the proposed information collection instrument with instructions or additional information, please contact Benjamin Adams, Social Science Analyst, Office of Juvenile Justice and Delinquency Prevention, 810 Seventh Street NW, Washington, DC 20531 (email: benjamin.adams@usdoj.gov; telephone: 202-616-3687).

SUPPLEMENTARY INFORMATION: Written comments and suggestions from the public and affected agencies concerning the proposed collection of information are encouraged. Your comments should address one or more of the following four points:

—Evaluate whether the proposed collection of information is necessary for the proper performance of the functions of the Office of Juvenile Justice and Delinquency Prevention, including whether the information shall have practical utility;

—Evaluate whether the accuracy of the agency's estimate of the burden on the proposed collection of information, including the validity of the methodology and assumptions that were used;

—Evaluate whether and if so how the quality, utility, and clarity of the information collected can be enhanced; and

—Minimize the burden of the collection of information on those who are to respond, including use of appropriate automated, electronic, mechanical, or other technological collection techniques or other forms of information technology, e.g., permitting electronic submission of responses.

Overview of This Information Collection

(1) Type of Information Collection: New collection.

(2) The Title of the Form/Collection: Fourth National Incidence Studies of Missing, Abducted, Runaway and Thrownaway Children (NISMART-4).

(3) The agency form number, if any, and the applicable component of the Department sponsoring the collection: Not applicable (new collection).

(4) Affected public who will be asked or required to respond, as well as a brief abstract: Primary: State, county, and local law enforcement agencies (LEAs), state Missing Child Clearinghouses (MCCs), and the National Center on Missing and Exploited Children (NCMEC). Abstract: The Fourth National Incidence Studies of Missing, Abducted, Runaway and Thrownaway Children (NISMART-4) will include three pilot studies and one national data collection. The three pilot studies will test methodologies for collecting information from law enforcement agencies on child victims of stranger abductions, parental abductions, and other types of missing children, respectively. The pilot test data will be used solely to evaluate the effectiveness of the proposed survey methodologies. The national study will collect data on the number and characteristics of children abducted by strangers (i.e., “stereotypical kidnappings”). OJJDP will use the information gathered in the national study in published reports and statistics. The reports will be made available to the U.S. Congress, Executive Office of the President, practitioners, researchers, students, the media, others interested in missing children statistics, and the general public via the OJJDP website.

(5) An estimate of the total number of respondents and the amount of time estimated for an average respondent to respond:

Burden Hours for Law Enforcement Survey—Stereotypical Kidnappings (LES-SK) Pilot: OJJDP expects 20 law enforcement investigators to spend an average of 40 minutes completing an online case detail survey and 20 minutes completing the telephone debriefing about the online survey (20 × 60 minutes = 20 hours). In addition, OJJDP expects the NCMEC database administrator to spend 5 hours pulling 20 stereotypical kidnappings cases from the NCMEC database for use in testing the online survey (1 × 5 hours = 5 hours). The total amount of time for the LES-SK pilot is 25 hours.

Burden Hours for Law Enforcement Survey—Family Abductions (LES-FA) Pilot: The sample size for Components 1 and 2 of the pilot is 30 law enforcement investigators who will be asked to search their database for cases of family abductions occurring in a 1-year period. OJJDP estimates the search will take an average of 3 hours and that 28 will comply (28 × 3 hours = 84 hours), 2 will decline (2 × 3 minutes = 6 minutes). OJJDP estimates that database administrators for NCMEC and the MCCs associated with states in the sample will all agree to conduct database searches for the agencies in Component 1 and Component 2 and that these searches will take an average of 3 hours (31 × 4 hours = 124 hours). OJJDP estimates that all 5 agencies selected for telephone debriefing in Component 1 will participate and the interviews will take an average of 20 minutes to complete (5 × 20 minutes = 1.67 hours). OJJDP expects that all 10 of the law enforcement investigators selected to complete the Component 3 case detail telephone survey will participate and that the interview will take 30 minutes (10 × 30 minutes = 5 hours). OJJDP estimates that 18 of the 20 investigators selected to complete the Component 3 case detail online survey will comply and that the instrument will take an average of 15 minutes (18 × 15 minutes = 4.5 hours), 2 will decline (2 × 3 minutes = 6 minutes). OJJDP expects that all 18 investigators who complete the online survey will agree to participate in the 20 minute debriefing telephone interview (18 × 20 minutes = 6 hours). The total amount of time for the LES-FA pilot is 225.4 hours.

Burden Hours for Law Enforcement Survey—Missing Children (LES-MC) Pilot: The sample size for Components 1 and 2 of the pilot is 30 law enforcement investigators who will be asked to search for case of missing children occurring in a 1-month period. OJJDP estimates the search will take an average of 3 hours and that 28 will comply (28 × 3 hours = 84 hours), 2 will decline (2 × 3 minutes = 6 minutes). OJJDP estimates that database administrators for NCMEC and the MCCs associated with states in the sample will all agree to conduct database searches and that these searches will take an average of 4 hours (31 × 4 hours = 124 hours). OJJDP estimates that all five agencies selected for telephone debriefing in Component 1 will participate and the interviews will take an average of 20 minutes to complete (5 × 20 minutes = 1.67 hours). OJJDP expects that all 10 of the law enforcement investigators selected to complete the Component 3 case detail telephone survey will participate and that the interview will take 30 minutes (10 × 30 minutes = 5 hours). OJJDP estimates that 18 of the 20 investigators selected to complete the Component 3 case detail online survey will comply and that the instrument will take an average of 15 minutes (18 × 15 minutes = 4.5 hours), 2 will decline (2 × 3 minutes = 6 minutes). OJJDP expects that all 18 investigators who complete the online survey will agree to participate in the 20 minute debriefing telephone interview (18 × 20 minutes = 6 hours). The total amount of time for the LES-MC pilot is 225.4 hours.

Burden Hours for National Law Enforcement Survey—Stereotypical Kidnappings (LES-SK): A total of 4,727 law enforcement agencies are included in the national stratified cluster sample of 400 PSUs (Primary Sampling Units). All of these agencies will receive the mail screener. OJJDP estimates that 2,836 (60 percent) of the law enforcement agencies will complete the screener by mail, based on the response rate for the mail screener obtained for NISMART-3. The great majority of these will have no stereotypical kidnapping cases during the 1-year timeframe of the survey and OJJDP estimates the average time to complete the mail screener to be 15 minutes (2,836 × 15 minutes = 709.05 hours), 1,891 will not respond by mail (1,891 × 3 minutes = 94.54 hours). OJJDP estimates that 1,229 (26 percent) of the law enforcement agencies will complete the mail screener by telephone, based on the percentage of mail screeners completed by telephone in NIMSART-3. OJJDP estimates that the time to complete the screener by telephone will be 4 minutes (1,229 × 4 minutes =81.9 hours), and 662 will not respond (662 × 3 minutes = 33.1 hours). OJJDP estimates that 204 cases will be identified that appear to meet the definition of a qualifying stereotypical kidnapping case. The estimate is based on the number of cases identified in NISMART-3 for telephone followup from the mail screener and searches of other databases. Investigators of these cases will be asked to complete the online survey about case details. OJJDP estimates that 161 (79 percent) of the law enforcement officers will complete the case detail online instrument (estimate again based on the percentage of investigators who completed this component for NISMART-3) with 145 (90 percent) completing online. OJJDP estimates that the instrument will take an average of 40 minutes to complete (145 × 40 minutes = 96.6 hours), 59 will not respond online (59 × 3 minutes = 2.95 hours). OJJDP estimates that 16 (10 percent) of the 161 law enforcement officers who complete the detailed case survey will do it via telephone interview and that the interview will take 60 minutes (16 × 60 minutes = 16 hours), and that 43 will not respond (43 × 3 minutes = 2.15 hours). OJJDP estimates the time for NCMEC and state MCCs database administrators to conduct a database search of any stereotypical kidnapping cases in their states to be 4 hours and expect that all NCMEC and the state MCCs in the 49 states where the sampled PSUs are located will participate (50 × 4 hour = 200 hours). The total amount of time for the National LES-SK study is 1,236.5 hours.

(6) An estimate of the total public burden (in hours) associated with the collection: There are an estimated 1,712 total burden hours (1,259 hours for law enforcement investigators and 453 hours for NCMEC and MCC database administrators) associated with the three pilot studies and the national LES-SK study.

If additional information is required contact: Melody Braswell, Department Clearance Officer, United States Department of Justice, Justice Management Division, Policy and Planning Staff, Two Constitution Square, 145 N Street NE, 3E.405A, Washington, DC 20530.

Dated: January 30, 2019.
Melody Braswell,
Department Clearance Officer for PRA, U.S. Department of Justice.

[FR Doc. 2019-00850 Filed 2-1-19; 8:45 am]

BILLING CODE 4410-18-P